DEPARTMENT OF ENERGY

Federal Energy Regulatory Commission

[Docket No. RP00-545-000]

WestGas InterState, Inc.; Notice of Tariff Filing

September 21, 2000.

Take notice that on September 15, 2000, WestGas InterState, Inc. (WGI), tendered for filing as part of its FERC Gas Tariff, First Revised Volume No. 1, the following pro forma tariff sheets:

Pro Forma Sheet No. 87

Pro Forma Sheet No. 88

Pro Forma Sheet No. 89

WGI states that these pro forma tariff sheets reflect the changes to its tariff that are required to comply with the Commission's Order Nos. 637, 637-A and 637-B. WGI has made changes to its General Terms and Conditions to provide for segmentation of capacity. As further explained in the filing, WGI believes its current tariff provisions governing scheduling equality and flexible point rights comply with the requirements of Order No. 637. WGI requests waiver of the requirements relating to alternate point allocations, operational flow orders, imbalance services and penalties on the grounds that they are either not operationally feasible for WGI or are unnecessary in order to comply with Order No. 637.

WGI states that copies of this filing have been served on WGI's jurisdictional customers and public bodies.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before October 16, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-24772 Filed 9-26-00; 8:45 am]

BILLING CODE 6717-01-M